DEPARTMENT OF COMMERCE

International Trade Administration

19 CFR Part 361

[Docket Number: 060316072-5251-02]

RIN 0625-AA70

Mexican Cement Import Licensing System

AGENCY: Import Administration, International Trade Administration, Department of Commerce.

ACTION: Final rule.

SUMMARY: Import Administration (IA) issues this final rule to add new regulations implementing the Mexican Cement Import Licensing System in accordance with the Agreement between the Office of the United States Trade Representative and the Department of Commerce of the United States of America and the Ministry of Economy of the United Mexican States (Secretaría de Economía) on Trade in Cement (Agreement), signed March 6, 2006. This final rule requires all importers of cement from Mexico covered by the scope of the Agreement to obtain an import license from the Department of Commerce (Commerce) prior to completing their U.S. Customs and Border Protection (CBP) entry summary documentation. To obtain the import license, the importer, or the importer's broker or agent, must complete a form supplying certain information to Commerce about the Mexican Cement importation. The import license number will be generated immediately upon submitting the information and will be needed to complete the CBP entry documentation. IA will use the information recorded on the import license form as the basis for monitoring compliance with the Agreement.

In addition, IA informs the public of the approval by the Office of Management and Budget (OMB) of the collection-of-information requirements contained in this final rule and publishes the OMB control numbers for those collections.

DATES: This final rule is effective April 5, 2007. Filers will be able to obtain their user identification numbers on or after March 16, 2007 and apply for import licenses on or after April 5, 2007.

FOR FURTHER INFORMATION CONTACT: Sally C. Gannon (202) 482-0162; Judith Wey Rudman (202) 482-0192; or Jonathan Herzog (202) 482-4271. Additional information is available on Commerce's import licensing Web site http://ia.ita.doc.gov/cement-agreement/index.html.

SUPPLEMENTARY INFORMATION: IA issues this final rule to add new regulations implementing the Mexican Cement Import Licensing System (MCILS) in accordance with the Agreement, signed March 6, 2006. This final rule requires all importers of cement from Mexico covered by the scope of the Agreement to obtain an import license from Commerce prior to completing their CBP entry summary documentation. To obtain an import license, the importer, or the importer's broker or agent, must complete a form providing certain information to Commerce about the Mexican Cement importation. The import license number will be generated immediately upon submitting the information and will be needed to complete the CBP entry summary documentation. IA will use the information recorded in the import license form as the basis for monitoring compliance with the Agreement.

The proposed rule was published on May 31, 2006 (71 FR 30836) (“proposed rule”), inviting parties to submit comments through June 30, 2006. The rationale and authority for the program were provided in the preamble to the proposed rule and are not repeated here.

Comments on the Proposed Rule: Comments received during the public comment period set forth in the proposed rule are addressed in this final rule. Four parties submitted comments on the proposed rule. Most of the comments supported the licensing program and focused on a particular aspect of the licensing program concerning which the party wanted clarification or an adjustment. The comments are summarized below, with comments raised by more than one party addressed first. Please note that the numbering used in the proposed rule, 19 CFR 360.201 through 360.205, has changed to 19 CFR 361.101 through 361.105 for purposes of this final rule. Therefore, all references in this document refer to 19 CFR 361.101 through 361.105.

Comment 1: Access to Information.

The Southern Tier Cement Committee (STCC) and Holcim (US), Inc. (Holcim) comment that, due to the limited amount of public, non-proprietary information expected to be generated by the MCILS, little aggregate information will be available for publication on IA's Web site. Therefore, according to the STCC and Holcim, it is important that Commerce provide interested parties timely access to the information derived from the MCILS in accordance with the administrative protective order in effect for this Agreement in order that the parties may review whether the Mexican exporters are complying with the terms of the Agreement. Similarly, GCC Cemento, S.A. de C.V. and GCC Rio Grande, Inc. (collectively GCCC) ask Commerce to clarify the sort of aggregate information that would be made available to the public and to confirm that business proprietary data would not be revealed.

Commerce Response: As noted in the SUPPLEMENTARY INFORMATION section of the proposed rule, certain aggregate information collected from the MCILS will be available on the IA Web site. No business proprietary information will be posted on the Web site, i.e., posted information will not be specific to a particular port or company. Instead, publicly available information will consist of the total quantity of Mexican Cement imports for all sub-regions combined. Further, Commerce will provide quarterly reports of information collected on the MCILS to parties that have been approved for access to business proprietary information under the administrative protective order in effect for this Agreement. See Appendix 26 of the Agreement, “Agreement for Disclosure of and Access to Business Proprietary Information.”

Commerce has added 19 CFR 361.101(a)(5) to this final rule to address concerns about access to information and the use of business proprietary information.

Comment 2: Maintaining Up-To-Date Information.

The STCC comments that, unlike 19 CFR 360.102(b), which governs Commerce's Steel Import Monitoring and Analysis (SIMA) licensing system, 19 CFR 361.102(a)(2) does not include the language, “It is the responsibility of the applicant to keep the information up-to-date,” when discussing the information necessary to obtain a user identification number. The STCC asks that this language be added in order to ensure that the applicants for an import license from the MCILS will be aware of their responsibility to keep their information current.

Commerce Response: Commerce agrees with the STCC in this regard. For the purposes of this final rule, Commerce has added the sentence, “It is the responsibility of the applicant to keep the information up-to-date,” to 19 CFR 361.102(a)(2).

Comment 3: Types of Entries.

GCCC comments that Commerce used the phrase “all imports of Mexican Cement” in 19 CFR 361.101(a)(3), and the phrase “all entries for consumption of covered Mexican Cement products” in 19 CFR 361.101(b) when describing what products will require an import license. GCCC comments that Commerce should clarify whether all imports of Mexican Cement or all entries of Mexican Cement for consumption would require an import license. Specifically, GCCC asks whether a sample for testing purposes, which is not an entry for consumption, would require an import license.

Commerce Response: In order to provide Commerce with the ability to monitor this Agreement effectively, all entries of Mexican Cement included within the scope of the Agreement, including samples, whether or not for consumption, will be required to be accompanied by an import license issued through the MCILS. Commerce has added this clarification to 19 CFR 361.101(a)(3) and (b) of the final rule.

Commerce has also clarified 19 CFR 361.101(b) to state that all shipments of covered Mexican Cement into FTZs, known as FTZ admissions, will require an import license prior to the filing of FTZ admission documents as stated in 19 CFR 361.101(c).

Comment 4: Multiple Products.

GCCC comments that, in the proposed rule, both the preamble and 19 CFR 361.101(a)(4) state that a single import license may cover multiple products as long as certain information on the import license remains the same. However, GCCC notes that the information which must remain the same differs between the two provisions and requests that Commerce clarify what information is required to be the same in order for an import license to cover multiple products.

Commerce Response: In order for an import license to cover multiple products, the following information must remain the same: Company Name, Address, City, State, Zip, Contact Name, Contact Phone, Contact Fax, Contact E-mail, Importer Name, Exporter Name, Manufacturer Name, Country of Origin, Country of Exportation, Expected Port of Entry, Expected Date of Importation, Expected Date of Export, Customs Entry Number (if known), Date License Valid From, Date License Valid Through, Date of Application, Subregion of Final Destination, Type of Affiliation, U.S. Affiliate's Name, Address, County, City, State, Zip, the Mexican Export License Number, and Disaster Relief Statement. Only the product-specific information (i.e., HTSUS Number, Product Description, Quantity, Unit, Entered Value in U.S. $, and Unit Value) may differ, if a single import license is used to cover multiple products. Commerce has added this clarification to 19 CFR 361.101(a)(4) of the final rule.

Comment 5: Customs Entry Number Requirement.

GCCC comments that 19 CFR 361.103(b) and (c)(xiii) of the proposed rule are ambiguous as to whether the CBP entry number is required to be reported on the application for an import license if known at the time of completing the application. GCCC requests that Commerce clarify whether the CBP entry number is required to be reported on the application for an import license if it is known at the time of application.

Commerce Response: If the CBP entry number is known to the applicant at the time of applying for an import license, the party filing the application is required to report the CBP entry number. Commerce has added this clarification to 19 CFR 361.103(b) of the final rule.

Comment 6: Final Destination.

GCCC notes that 19 CFR 361.103(c)(xii) of the proposed rule states that an applicant must indicate the address of the silo/warehouse where the Mexican Cement will be kept until shipment to the first unaffiliated purchaser. According to GCCC, Mexican Cement that is stored in a silo or warehouse may be shipped to either an affiliated purchaser for resale or consumption, or to an unaffiliated purchaser. Therefore, GCCC requests that 19 CFR 361.103(c)(xii) of the proposed rule be amended to reflect this alternative.

GCCC also comments, with regard to 19 CFR 361.103(xii) of the proposed rule, that Mexican Cement may be stored in a silo or warehouse in one region and then later shipped to a different region, if the final customer is not known at the time of entry and application for the import license. Therefore, GCCC requests that Commerce confirm that in such a situation, the final destination should be identified as the silo or warehouse where the cement is stored upon importation, even if the cement is ultimately consumed or sold in a different sub-region.

Commerce Response: During the negotiation of this Agreement, Commerce worked with all of the interested parties and their representatives, including GCCC, to develop the type of information needed to be collected by the MCILS in order for the system to be effective. Commerce and Secretaría de Economía submitted several rounds of draft agreement text, including the appendices, for comment and review by the interested parties. After extensive deliberation and negotiation, all parties agreed to the Agreement and its related Appendices. Appendix 20 of the Agreement defines “Final Destination” exactly as it appears in 19 CFR 361.103(c)(xii) of the proposed rule and as intended by the drafters of the Agreement. As such, Commerce cannot modify the language of 19 CFR 361.103(c)(xii) of the final rule without modifying the terms of the Agreement. Therefore, for the purposes of the final rule, Commerce will not amend the language of 19 CFR 361.103(c)(xii) as GCCC has requested.

In its entirety, the Agreement establishes a three-part monitoring system that includes export licenses issued by the Government of Mexico, an import license issued by Commerce, and monthly sales reports provided by the Mexican exporters and related importers. In accordance with Appendix 22 of the Agreement, any Mexican party exporting Mexican Cement to the United States is required to obtain an export license which states the “Sub-Region of Final Destination” to which the Mexican Cement is being exported. The export license number is to be reported on the import license issued by Commerce. Further, in accordance with Appendix 20 of the Agreement, to obtain an import license from Commerce, the importer must provide the “Sub-Region of Final Destination” in addition to the “Final Destination.” “Sub-Region of Final Destination” is defined in Appendix 20 as the “Sub-region where either the Mexican Cement will be consumed by an affiliated company to make concrete or concrete products or the Sub-region of the first unaffiliated purchaser of Mexican Cement.” The Sub-Region of Final Destination reported on the Mexican export license must match the Sub-Region of Final Destination reported on the import license. Thus, when reporting “Final Destination” as set out in 19 CFR 361.103(c)(xii) of the final rule, the final destination, including the silo or warehouse in which the Mexican Cement may be stored, may not differ from the Sub-Region of Final Destination reported on both the export and import licenses. In a situation where the end customer is not known at the time of importation and the product is stored in a silo or warehouse, if the Mexican Cement is sold into a Sub-region other than that listed on the export and import licenses, Commerce may commence an investigation pursuant to the terms of the Agreement, including, but not limited to, initiating a changed circumstances review in accordance with Section VII of the Agreement.

Comment 7: Mexican Export License Number.

GCCC comments that when the company ships Mexican Cement, the tonnage in a shipment may be covered by two separate Mexican Export Licenses, if the tonnage limit for one Mexican Export License is reached and a new Mexican Export License is needed to cover the additional quantity. Therefore, GCCC requests that Commerce confirm whether it will require the importer to identify the tonnage and value that correspond to each Export License, or if it will require the importer to list the total quantity and value for the entire shipment and list both Mexican Export License Numbers on its application for an import license.

Cemex, S.A. de C.V. (Cemex) comments that the proposed rule does not explicitly say whether a single import license may be used for more than one entry if all of the information on the import license is the same and requests that Commerce explicitly state in the final rule if a single import license may be used for more than one entry.

Commerce Response: The MCILS and the Mexican Export License systems are being established to track the quantity and value of Mexican Cement shipments accurately and on a real-time basis. Commerce must be able to trace specific quantities and values from a given Mexican Export License to an import license to ensure proper monitoring of the Agreement's sub-regional quotas. As designed, the application for an import license will only allow for the applicant to enter a single Mexican export license number. Thus, if a shipment of 100 metric tons (MT) is entered into the United States, 60 MT of which applies to one Mexican Export License, and 40 MT of which applies to a second Mexican Export License, the importer must obtain an import license for 60 MT and a second import license for 40 MT.

Further, a separate import license is also required for each entry made pursuant to separate export licenses. Therefore, a separate import license is required for every entry of Mexican Cement. Commerce has added language clarifying these requirements in 19 CFR 361.101(a)(4) and (d) of the final rule.

Comment 8: Copies of Licenses.

GCCC comments that because only Commerce will have access to the completed import licenses after the date they are issued, Commerce should state how long it intends to maintain the import licenses. GCCC requests that Commerce maintain copies for the entire period that the Agreement is in effect. Cemex comments that the proposed rule does not provide a time frame in which Commerce will be required to issue a copy of an import license to a requesting party. Cemex suggests that Commerce be required to issue a copy of an import license within 24 hours of when it is requested, and that it would be useful if there were an expedited procedure for obtaining a copy in a shorter period of time where the absence of a copy of the import license is impeding entry of Mexican Cement.

Commerce Response: An importer will be able to access copies of the import licenses it has obtained through the MCILS via the MCILS Web site. In the event that the MCILS Web site is not accessible, Commerce will normally issue a copy by fax or standard mail within two business days. However, where the absence of an import license impedes entry of Mexican Cement, Commerce will make every effort to work with the importer and CBP to resolve the problem as quickly as possible.

Comment 9: Correcting/Cancelling Import Licenses.

GCCC raises two questions. First, 19 CFR 361.103(e) of the proposed rule states that applicants may cancel import licenses which contain errors prior to entry and file for a new import license with corrected information. GCCC asks whether there is a way to correct inadvertent errors to the import license after entry. Second, GCCC asks how Commerce will address situations in which an importer obtains an import license, but is notified of a cancelled sale after the entry date.

Commerce Response: It is Commerce's intent that the MCILS monitor imports of Mexican Cement as accurately as possible. Any errors contained in an import license should be corrected prior to entry by correcting the import license or by cancelling the import license and applying for a new import license. In the situation where an inadvertent error is discovered after entry, applicants will be able to correct the import license or cancel the import license and apply for a new import license. Commerce will monitor such actions closely and reserves the right to investigate corrections made after entry. If Commerce determines that an error corrected after entry was not an inadvertent error, Commerce may take appropriate action in accordance with the terms of the Agreement.

Further, all Mexican Cement imported into the United States covered by the scope of the Agreement is required to have an import license. This requirement includes any Mexican Cement imported into the United States pursuant to a sale that is cancelled after entry.

Comment 10: Typographical Error.

The STCC comments that there appears to be a typographical error in 19 CFR 361.104 of the proposed rule.

Commerce Response: Commerce agrees and has corrected this error by adding the word “or” to the sentence in 19 CFR 361.104 of the final rule.

Regulatory Flexibility Act

The Chief Counsel for Regulation certified to the Chief Counsel for Advocacy of the Small Business Administration that the proposed rule, if adopted, will not have a significant impact on a substantial number of small entities as that term is defined in the Regulatory Flexibility Act, 5 U.S.C. 601 et seq. A summary of the factual basis for this certification is below.

Commerce is unable to determine the number of brokerage companies and importers that would be impacted by this rule as Commerce does not collect this information. However, based on historical data, Commerce estimates that there are few brokerage companies and importers that would be considered small entities under Small Business Administration's standard (5 U.S.C. 603(b)(3)). Typically, larger brokers handle Mexican Cement shipments because of the capital that is needed upfront to handle bonds and other costs. Each importer or broker must fill out the import license form for each entry of the subject merchandise. Based on CBP entry summary information, we estimate that 12,150 import licenses will be issued each year. Of this number, only a small percentage of import licenses would be requested by a small entity as a result of this rule.

Even if this rule impacted a large number of small entities, these entities would not incur significant costs to comply with the proposed regulations. Most brokerage companies that are currently involved in filing required documentation for importing goods into the United States, specifically CBP documentation, are accustomed to CBP's automated systems. Today, more than 99 percent of CBP filings are handled electronically. Therefore, the web-based nature of this simple import license application should not impose a significant cost to any firm in completing this new requirement. However, should a company prefer or need to apply for an ID or import license by other than electronic means, a fax/phone option will be available at Commerce during regular business hours. There is no cost to register for a company-specific user identification number and no cost to apply for an import license.

Each import license form is expected to take at most about 10 minutes to complete using much of the same information the brokers will use to complete their CBP entry summary documentation. The response time should not vary widely because the same information is used to fill out other required CBP documents. The estimated average cost to private sector respondents is $20.00 per hour.

Based on the estimated 12,150 import licenses that will be issued each year, the total cost to respondents as a result of this rule is $40,500.00. Based on historic CBP information, there are few small entities that would be affected by this rule. Therefore, of this amount, only a small percentage of the total cost would be incurred by small entities. Based on these figures, this action will not have a significant economic impact on a substantial number of small entities. No comments were received regarding the economic impact of this rule. As a result, no Final Regulatory Flexibility Analysis was prepared.

Paperwork Reduction Act

This final rule contains collection-of-information requirements subject to review and approval by OMB under the Paperwork Reduction Act. These requirements have been approved by OMB under the Paperwork Reduction Act (OMB No.: 0625-0259; Expiration Date: December 31, 2009). The public reporting burden for these collections of information is estimated at 10 minutes. Parties must maintain copies in accordance with CBP's existing requirements. The import licensing system requests information already required of an importer, approval is automatic, and the importer will have ample opportunity and time to apply. These estimates of time required to complete an application include the time for reviewing instructions, searching existing data sources, gathering and maintaining the data needed, and completing and reviewing the collection of information.

All responses to this collection of information are mandatory, and will be provided to the extent allowed by law. Notwithstanding any other provision of law, no person is required to respond to, nor shall any person be subject to a penalty for failure to comply with, a collection of information subject to the Paperwork Reduction Act unless that collection displays a valid OMB Control Number. Send comments on the reporting burden estimate or any other aspect of the requirements in this final rule to OMB at the Office of Information and Regulatory Affairs, Office of Management and Budget, Washington, DC 20503 (Attention: ITA Desk Officer).

Executive Order 12866

It has been determined that this rule is significant for purposes of Executive Order 12866 of September 30, 1993 (“Regulatory Planning and Review”) (58 FR 51735 (October 4, 1993)).

Executive Order 13132

This rule does not contain policies with federalism implications as that term is defined in section 1(a) of Executive Order 13132, dated August 4, 1999 (64 FR 43255 (August 10, 1999)).

For the reasons set out in the preamble, 19 CFR part 361 is added as follows:

PART 361—MEXICAN CEMENT IMPORT LICENSING SYSTEM

Sec.
361.101 Mexican Cement Import Licensing System.
361.102 Online registration.
361.103 Automatic issuance of import licenses.
361.104 Fees.
361.105 Hours of operation.

Authority: 13 U.S.C. 301(a) and 302.

§ 361.101 Mexican Cement Import Licensing System.

(a) In general. (1) On March 6, 2006, the Agreement between the Office of the United States Trade Representative and the Department of Commerce of the United States of America and the Ministry of Economy of the United Mexican States (Secretaria de Economia) on Trade in Cement (Agreement) was signed. Pursuant to the Agreement, the United States has agreed to implement an import licensing system for imports of merchandise covered by the scope of the antidumping duty order on Cement from Mexico. Some of the data to be collected is in addition to data currently collected by U.S. Customs and Border Protection (USCBP). The data collected by the Mexican Cement Import Licensing System will be used by the Department of Commerce (Commerce) to monitor imports of Mexican Cement, as the imports occur.

(2) Mexican Cement is defined as gray portland cement and clinker from Mexico. Gray portland cement is a hydraulic cement and the primary component of concrete. Clinker, an intermediate material produced when manufacturing cement, has no use other than being ground into finished cement. Specifically included within the scope of this definition are pozzolanic blended cements and oil well cements. Specifically excluded are white cement and Type “S” masonry cement. Gray portland cement is currently classifiable under the Harmonized Tariff Schedule of the United States (HTSUS) item number 2523.29 and cement clinker is currently classifiable under HTSUS item number 2523.10. Gray portland cement has also been entered under HTSUS item number 2523.90 as “other hydraulic cements.” These HTSUS subheadings are provided for convenience and USCBP purposes; the written definition is controlling for purposes of this Agreement.

(3) The Mexican Cement Import Licensing System includes an online registration system. All imports of Mexican Cement covered by the scope of the Agreement, including samples, whether or not for consumption, are subject to the Mexican Cement Import Licensing requirements. Information gathered from these import licenses will be used to ensure that the terms of the Agreement are complied with and enforced.

(4) A single import license may cover multiple products if the following information reported on the import license remains the same: Company Name, Address, City, State, Zip, Contact Name, Contact Phone, Contact Fax, Contact E-mail, Importer Name, Exporter Name, Manufacturer Name, Country of Origin, Country of Exportation, Expected Port of Entry, Expected Date of Importation, Expected Date of Export, Customs Entry Number (if known), Date License Valid From, Date License Valid Through, Date of Application, Subregion of Final Destination, Type of Affiliation, U.S. Affiliate's Name, Address, County, City, State, Zip, Mexican Export License Number, and Disaster Relief Statement. Separate import licenses will be required for each type of Mexican Cement entry if the above information differs. As a result, a single USCBP entry summary may require more than one Mexican Cement import license. The applicable import license(s) must cover the total quantity of Mexican Cement entered and should cover the same information provided on USCBP Form 7501.

(5) Access to Information. (i) Information gathered by the Mexican Cement Import Licensing System will be treated as business proprietary information and will be subject to the administrative protective order in place for this Agreement. Commerce may elect to publish certain aggregate information collected by the Mexican Cement Import License System on the Import Administration Web site. Any information Commerce elects to publish will not include business proprietary information nor information from specific ports of entry or companies.

(ii) In accordance with 19 CFR 351.305, interested parties who have been approved for access to business proprietary information under the administrative protective order in effect for this Agreement will receive a quarterly report of all information gathered by the Mexican Cement Import License System.

(b) Covered Entries. All entries of Mexican Cement subject to the Agreement, including samples, whether or not for consumption, will require an import license prior to the filing of USCBP Form 7501, except as provided in § 361.101(c). The import license number(s) must be reported on USCBP Form 7501 at the time of filing. There is no requirement to present physical copies of the import license forms at the time of filing USCBP Form 7501; however, copies must be maintained in accordance with USCBP's existing requirements. Submission of a USCBP Form 7501 without the required import license number(s) will be considered circumvention of the Agreement.

(c) Foreign Trade Zone entries. All shipments of covered Mexican Cement into FTZs, known as FTZ admissions, will require an import license prior to the filing of FTZ admission documents. The import license number(s) must be reported on the application for FTZ admission and/or status designation (USCBP Form 214) at the time of filing. There is no requirement to present physical copies of the import license forms at the time of FTZ admission; however, copies must be maintained in accordance with USCBP's existing requirements. Submission of FTZ admission documents without the required import license number(s) will be considered circumvention of the Agreement. A further Mexican Cement import license will not be required for shipments from FTZs into the commerce of the United States.

(d) Mexican Export License Requirement. Each importer is required to submit a valid Mexican Export License to USCBP with its 7501 entry summary. For multiple shipments at multiple ports, or multiple entries at one port, the original Mexican Export License shall be presented with the first 7501 entry summary and a copy of the Export License shall be presented with each subsequent 7501 entry summary. In the case where an entry is covered by two Mexican export licenses, the importer must obtain two separate import licenses (e.g., if a shipment of 100 metric tons (MT) is entered into the United States, 60 MT of which applies to one Mexican Export License, and 40 MT of which applies to a second Mexican Export License, the importer must obtain an import license for 60 MT and a second import license for 40 MT).

§ 361.102 Online registration.

(a) In General. (1) Any importer, importing company, customs broker or importer's agent with a U.S. street address may register and obtain the user identification number necessary to log on to the automatic Mexican Cement import license issuance system. Foreign companies may obtain a user identification number if they have a U.S. address through which they may be reached; P.O. Boxes will not be accepted. A user identification number normally will be issued within two business days. Companies will be able to register online through the import licensing Web site. However, should a company prefer to apply for a user identification number non-electronically, a phone/fax option will be available at Commerce during regular business hours.

(2) This user identification number will be required in order to log on to the Mexican Cement import license issuance system. A single user identification number will be issued to an importing company, brokerage house or importer's agent. Operating units within the company (e.g., individual branches, divisions, or employees) will all use the same company user identification number. The Mexican Cement import license issuance system will be designed to allow multiple users of a single identification number from different locations within the company to enter information simultaneously.

(b) Information required to obtain a user identification number. In order to obtain a user identification number, the importer, importing company, customs broker or importer's agent will be required to provide certain general information. This information will include: the filer's company name, employer identification number (EIN) or USCBP ID number (where no EIN is available), U.S. street address, telephone number, e-mail address, and contact information for both the company headquarters and any branch offices that will be applying for Mexican Cement import licenses. It is the responsibility of the applicant to keep this information up-to-date. This information will not be released by Commerce, except as required by U.S. law.

§ 361.103 Automatic issuance of import licenses.

(a) In general. Mexican Cement import licenses will be issued to registered importers, customs brokers or their agents through the automatic Mexican Cement Import Licensing System. The import licenses will be issued automatically after the completion of the form.

(b) USCBP entry number. Filers are required to report a USCBP entry number to obtain an import license if the USCBP entry number is known at the time of filing for the import license.

(c) Information required to obtain an import license. (1) The following information is required to be reported in order to obtain an import license (if using the automatic licensing system, some of this information will be provided automatically from information submitted as part of the registration process):

(i) Applicant company name and address;

(ii) Applicant contact name, phone number, fax number and e-mail address;

(iii) Importer name;

(iv) Exporter name;

(v) Manufacturer name;

(vi) Country of origin;

(vii) Country of exportation;

(viii) Expected date of export;

(ix) Expected date of import;

(x) Expected port of entry;

(xi) Sub-Region of Final Destination: Indicate the Sub-region where either the Mexican Cement will be consumed by an affiliated company to make concrete or concrete products or the Sub-region of the first unaffiliated purchaser of the Mexican Cement.

(xii) Final Destination: Indicate the complete name and address (including county) of either the affiliated company that will consume the Mexican Cement or the first unaffiliated purchaser of the Mexican Cement. If either is not known when the Import License is issued, indicate the address (including county) where the Mexican Cement will be siloed/warehoused until the time of shipment to the first unaffiliated purchaser.

(xiii) USCBP entry number, if known;

(xiv) Current Harmonized Tariff System of the United States (HTSUS) number (from Chapter 25 of the HTSUS);

(xv) Quantity (in metric tons);

(xvi) Customs value (U.S. $);

(xvii) Whether the entry is made pursuant to the disaster relief provisions of the Agreement; and

(xviii) Mexican Export License Number.

(2) Certain fields will be automatically completed by the automatic import license system based on information submitted by the filer (e.g., product category, unit value). Filers should review these fields to help confirm the accuracy of the submitted data.

(3) Upon completion of the form, the importer, customs broker or the importer's agent will certify as to the accuracy and completeness of the information and submit the form electronically. After submitting the completed form, the system will automatically issue a Mexican Cement import license number. The refreshed form containing the submitted information and the newly issued import license number will appear on the screen (the “import license form”). If needed, copies of completed import license forms can be requested from Commerce during normal business hours.

(d) Duration of the Mexican Cement import license. The Mexican Cement import license can be applied for up to 30 days prior to the expected date of importation and until the date of filing of USCBP Form 7501, or in the case of FTZ entries, the filing of USCBP Form 214. The Mexican Cement import license is valid for 60 days; however, import licenses that were valid on the date of importation but expired prior to the filing of USCBP Form 7501 will be accepted.

(e) Correcting submitted license information. If an error is discovered in the import license after the entry date listed on USCBP Form 7501, filers will be able to correct the import license or cancel the import license and obtain a new import license. Commerce reserves the right to verify any changes made to an import license after entry and may take appropriate action under the terms of the Agreement if it determines that a violation of the Agreement has occurred.

§ 361.104 Fees.

No fees will be charged for obtaining a user identification number or issuing a Mexican Cement import license.

§ 361.105 Hours of operation.

The automatic licensing system will generally be accessible 24 hours a day, 7 days a week but may be down at selected times for server maintenance. If the system is down for an extended period of time, parties will be able to obtain import licenses from Commerce directly via fax during regular business hours.

Dated: February 28, 2007.
David M. Spooner,
Assistant Secretary for Import Administration.

[FR Doc. 07-996 Filed 3-5-07; 8:45 am]

BILLING CODE 3510-DS-P